DEPARTMENT OF COMMERCE

International Trade Administation

(C-570-940)

Certain Tow-Behind Lawn Groomers and Certain Parts Thereof from the People's Republic of China: Postponement of Preliminary Determination in the Countervailing Duty Investigation

AGENCY: Import Administration, International Trade Administration, Department of Commerce.

EFFECTIVE DATE: August 26, 2008.

FOR FURTHER INFORMATION CONTACT: Gene Calvert or Paul Matino, AD/CVD Operations, Office 6, Import Administration, International Trade Administration, U.S. Department of Commerce, 14th Street and Constitution Avenue, N.W., Washington, D.C. 20230; telephone: (202) 482-3586 and (202) 482-4146, respectively.

SUPPLEMENTARY INFORMATION:

Background

On July 14, 2008, the Department of Commerce (the Department) initiated the countervailing duty investigation on certain tow-behind lawn groomers and certain parts thereof (lawn groomers) from the People's Republic of China (PRC). See Certain Tow-Behind Lawn Groomers and Certain Parts Thereof from the People's Republic of China: Initiation of Countervailing Duty Investigation, 73 FR 42324 (July 21, 2008). The preliminary determination is currently due no later than September 17, 2008.

Postponement of Due Date for Preliminary Determination

On August 8, 2008, Agri-Fab, Inc., petitioner, requested that the Department postpone the preliminary determination in the countervailing duty investigation on lawn groomers from the PRC until November 17, 2008. Under section 703(c)(1)(A) of the Tariff Act of 1930, as amended (the Act), the Department may extend the deadline for the preliminary determination in a countervailing duty investigation until no later than the 130th day¹ after the date on which the administering authority initiates an investigation, if the petitioner makes a timely request for an extension of the period within which the determination must be made under section 703(b) of the Act. Pursuant to 19 CFR 351.205(e), petitioner's request for postponement of the preliminary determination was made 25 days or more before the scheduled date of the preliminary determination. Accordingly, we are extending the due date for the preliminary determination to no later than November 17, 2008.

¹ In this investigation, the 130th day after the date of initiation is November 21, 2008.

This notice is issued and published pursuant to section 703(c)(2) and of the Act.

Dated: August 20, 2008.
David M. Spooner,
Assistant Secretary For Import Administration.

[FR Doc. E8-19777 Filed 8-25-08; 8:45 am]

Billing Code: 3510-DS-S